DEPARTMENT OF HOUSING AND URBAN DEVELOPMENT

[Docket No. FR-4818-N-09]

Notice of Proposed Information Collection for Public Comment on the Notice of Funding Availability for Research Studies on Homeownership and Affordable Lending

AGENCY: Office of Policy Development and Research, HUD.

ACTION: Notice.

SUMMARY: The proposed information collection requirement described below has been submitted to the Office of Management and Budget (OMB) for approval, as required by the Paperwork Reduction Act. The Department is soliciting public comments on the subject proposal.

DATES: Comments Due Date: October 3, 2003.

ADDRESSES: Interested persons are invited to submit comments regarding this proposal. Comments should refer to the proposal by name/or OMB approval number and should be sent to: Reports Liaison Officer, Office of Policy Development and Research, Department of Housing and Urban Development, 451 7th Street, SW., Room 8226, Washington, DC 20410.

FOR FURTHER INFORMATION CONTACT: John L. Gardner, Director, Financial Institutions Regulation Division, Office of Policy Development and Research Housing and Urban Development, 451 Seventh Street, SW., Washington, DC 20410; e-mail John_L._Garner@HUD.gov; telephone (202) 708-1464. This is not a toll-free number. Copies of available documents submitted to OMB may be obtained from Mr. Gardner.

SUPPLEMENTARY INFORMATION: This Notice informs the public that the Department of Housing and Urban Development (HUD) has submitted to OMB, for processing, an information collection package with respect to funding research studies on homeownership and affordable lending. This research would fulfill the President's goal of an additional 5.5 million minority homeowners by the end of the decade.

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Notice of Funding Availability for Research Studies on Homeownership and Affordable Lending.

Description of Information Collection: A study of homeownership and affordable lending will aid in the formulation of policies in support of the President's goal of increasing the number of minority homeowners.

OMB Control Number: 2528-0228.

Agency Form Numbers: HUD 424, HUD 424-B, HUD 424 CB, HUD 424 CBW, SF LLL, HUD 2880 HUD 2993, HUD 2994, HUD 1044, SF 1199A, HUD 27053, HUD 27054, HUD 269.

Members of Affected Public: Not-for-profit institutions, State, Local or Tribal Government.

Estimation of the total numbers of hours needed to prepare the information collection including number of respondents, frequent of responses, and hours of response: An estimation of the total number of hours needed to prepare the information collection is 1810, number of respondents is 40 for the award phase and 15 for the post-award phase, frequency of response is on occasion and quarterly, and the hours of response is 40 for applicants and an additional 14 for recipients.

Authority: The Paperwork Reduction Act of 1995, 44 U.S.C. chapter 35, as amended.

Dated: July 29, 2003.
Alberto F. Treveño,
Assistant Secretary for Policy Development and Research.

[FR Doc. 03-19794 Filed 8-1-03; 8:45 am]

BILLING CODE 4210-62-M